DEPARTMENT OF ENERGY

Federal Energy Regulatory Commission

[Docket Nos. EC06-78-000, et al.]

Entegra Power Group LLC, et al.; Electric Rate and Corporate Filings

February 17, 2006.

The following filings have been made with the Commission. The filings are listed in ascending order within each docket classification.

1. Entegra Power Group LLC, Gila River Power, L.P., Union Power Partners, L.P.

[Docket No. EC06-78-000]

Take notice that on February 10, 2006, Entegra Power Group, LLC, on behalf of itself and its wholly-owned subsidiaries Gila River Power, L.P. (Gila River) and Union Power Partners, L.P. (Union Power, Entegra and Gila River, collectively, Applicants), and on behalf of the current and future owners of equity interests in Entegra, filed with the Commission an application pursuant to section 203 of the Federal Power Act requesting blanket authorization for certain future transfers and acquisitions of equity interests in Entegra that meet the criteria set forth therein (the Pre-Authorized Transactions). Applicants request that the Commission, consistent with its precedent, grant limited waivers of its Part 33 filing requirements to the extent that such information is not necessary to ensure that the Pre-Authorized Transactions meet the statutory requirements of section 203.

Comment Date: 5 p.m. Eastern Time on March 3, 2006.

2. Bridgeport Energy LLC, Duke Bridgeport Energy LLC, LS Power Generation, LLC, United Bridgeport Energy, Inc.

[Docket No. EC06-79-000]

Take notice that on February 13, 2006, Bridgeport Energy LLC (Bridgeport), Duke Bridgeport Energy LLC (DBE), United Bridgeport Energy, LLC (UBE) and LS Power Generation, LLC (LSP Generation, and together Bridgeport, DBE and UBE, Applicants) submitted an application pursuant to section 203 of the Federal Power Act for authorization to transfer UBE one-third interest in Bridgeport, an approximately 490 MW generator, to DBE. Applicants request privileged treatment of commercially sensitive information included in the application. Furthermore, Applicants seek waiver of certain of the Commission's filing requirements.

Comment Date: 5 p.m. Eastern Time on March 6, 2006.

3. KGen Enterprise LLC, Navasota Wharton Energy Partners LP

[Docket No. EC06-80-000]

Take notice that on February 14, 2006, KGen Enterprise LLC (KGen) and Navasota Wharton Energy Partners LP (Navasota) filed with the Federal Energy Regulatory Commission an application pursuant to section 203 of the Federal Power Act for authorization of a disposition of jurisdictional facilities whereby KGen will transfer all of its ownership interests in two gas turbine generator sets to Navasota. Applicants request confidential treatment of Exhibit I, pursuant to 18 CFR 388.112 of the Commission's regulations.

Comment Date: 5 p.m. Eastern Time on March 7, 2006.

4. Georgia Power Company, Savannah Electric and Power Company

[Docket No. EC06-81-000]

Take notice that on February 14, 2006, Georgia Power Company (Georgia Power) and Savannah Electric and Power Company (Savannah Electric) (collectively, Applicants) pursuant to section 203 of the Federal Power Act, submitted for authorizations for Savannah Electric to merge into its sister company, Georgia Power, a transaction that may be considered as a disposition of jurisdictional facilities by Savannah Electric and a consolidation of jurisdictional facilities even though the jurisdictional facilities of the Applicants are operated today on an integrated basis.

Comment Date: 5 p.m. Eastern Time on March 7, 2006.

5. California Independent System Operator Corporation

[Docket No. ER06-61-001]

Take notice that on February 10, 2006, the California Independent System Operator Corporation (ISO) submitted a compliance filing to amend the Metered Subsystem Agreement between the ISO and the City of Vernon, CA, filed on January 17, 2006.

Comment Date: 5 p.m. Eastern Time on February 23, 2006.

6. NorthWestern Corporation

[Docket No. ER06-168-001]

Take notice that on February 6, 2006, NorthWestern Corporation tendered for filing proposed modification to its Large Generator Interconnection Procedures and Large Generator Interconnection Agreement as requested by the Commission on January 5, 2006.

Comment Date: 5 p.m. Eastern Time on February 27, 2006.

7. California Independent System Operator Corporation

[Docket No. ER06-615-000]

Take notice that on February 9, 2006, the California Independent System Operator Corporation (CAISO) submitted its proposed electric tariff to reflect the Market Redesign and Technology Upgrade.

Comment Date: 5 p.m. Eastern Time on March 27, 2006.

8. Duke Power Company LLC, Duke Power Company, Duke Energy Trading and Marketing, L.L.C., Duke Energy Marketing America, LLC, Duke Energy Fayette, LLC, Duke Energy Hanging Rock, LLC, Duke Energy Lee, LLC, Duke Energy Vermillion, LLC, Duke Energy Washington, LLC, Cincinnati Gas & Electric Co., PSI Energy, Inc., Union Light Heat & Power Company, Cinergy Marketing & Trading, LP, Brownsville Power I, L.L.C., Caledonia Power I, L.L.C., CinCap IV, LLC, CinCap V, LLC, Cinergy Capital & Trading, Inc., Cinergy Power Investments, Inc., St. Paul Cogeneration, LLC

[Docket Nos. ER06-619-000, ER96-110-019, ER99-2774-011, ER03-956-008, ER03-185-006, ER03-17-006, ER01-545-008, ER00-1783-008, ER02-795-006, ER96-2504-013, ER05-1367-002, ER05-1368-002, ER05-1369-003, ER00-826-005, ER00-828-005, ER98-421-016, ER98-4055-013, ER01-1337-008, ER02-177-009, ER03-1212-007]

Take notice that on February 7, 2006, the above-referenced proceedings, tendered for filing under section 205 of the Federal Power Act: (1) Amended market based rate tariffs for each of the MBR Companies and (ii) a notice of succession for the name change of Duke Power, currently a division of Duke Energy to Duke Power Company LLC.

Comment Date: 5 p.m. Eastern Time on February 28, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-2708 Filed 2-24-06; 8:45 am]

BILLING CODE 6717-01-P